SECURITIES AND EXCHANGE COMMISSION

Sunshine Act; Meeting

Notice is hereby given, pursuant to the provisions of the Government in the Sunshine Act, Public Law 94-409, that the Securities and Exchange Commission held the following additional meeting during the week of April 15, 2002:

An additional closed meeting was held on Wednesday, April 17, 2002 at 4 p.m.

Commissioner Glassman, as duty officer, determined that no earlier notice thereof was possible.

Commissioners, Counsel to the Commissioners, the Secretary to the Commission, and recording secretaries attended the closed meeting. Certain staff members who had an interest in the matters were also present.

The General Counsel of the Commission, or his designee, certified that, in his opinion, one or more of the exemptions set forth in 5 U.S.C. 552b(c)(5), (7), and (10) and 17 CFR 200.402(a)(5), (7), and (10), permitted consideration of the scheduled matters at the closed meeting.

The subject matter of the closed meeting held on Wednesday, April 17, 2001, was:

Adjudicatory matters; and formal order of investigation.

For further information, please contact: The Office of the Secretary at (202) 942-7070.

Dated: April 23, 2002.
Margaret H. McFarland,
Deputy Secretary.

[FR Doc. 02-10288 Filed 4-23-02; 11:53 am]

BILLING CODE 8010-01-P